DEPARTMENT OF THE INTERIOR

National Park Service

Notice of Inventory Completion: U.S. Department of the Interior, Bureau of Land Management, Grand Junction Field Office, Grand Junction, CO and Mesa State College, Grand Junction, CO

AGENCY: National Park Service, Interior.

ACTION: Notice.

Notice is here given in accordance with the Native American Graves Protection and Repatriation Act (NAGPRA), 25 U.S.C. 3003, of the completion of an inventory of human remains in the joint control of the U.S. Department of the Interior, Bureau of Land Management, Grand Junction Field Office, Grand Junction, CO, and Mesa State College, Grand Junction, CO. The human remains were removed from Mesa County, CO.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Bureau of Land Management, Grand Junction Field Office and Mesa State College professional staff, in consultation with representatives of the Hopi Tribe of Arizona; Jicarilla Apache Nation, New Mexico; Kiowa Indian Tribe of Oklahoma; Navajo Nation, Arizona, New Mexico & Utah; Ohkay Owingeh, New Mexico; Paiute Indian Tribe of Utah; Pueblo of San Ildefonso, New Mexico; Pueblo of Santa Ana, New Mexico; Pueblo of Santa Clara, New Mexico; Pueblo of Pojoaque, New Mexico; Shoshone-Bannock Tribes of the Fort Hall Reservation of Idaho; Southern Ute Indian Tribe of the Southern Ute Reservation, Colorado; Standing Rock Sioux Tribe of North & South Dakota; Ute Indian Tribe of the Uintah & Ouray Reservation, Utah; and Ute Mountain Tribe of the Ute Mountain Reservation, Colorado, New Mexico & Utah.

On an unknown date in the 1970s, human remains representing two individuals were removed from an unknown location near Grand Mesa, in Mesa County, CO. On April 1, 2009, the human remains were discovered in the Geology Department of Mesa State College by college staff, and were reported to the Ute Tribe of the Uintah & Ouray Reservation, and subsequently to the Bureau of Land Management. Based on investigations into their origin and placement at Mesa State College, most likely these remains were unofficially removed in the 1970s from public lands near Grand Mesa, CO, by Mesa State College students who were hiking in the area. The students brought the remains to Mesa State College, where they were studied and later stored in the Geology Department. No known individuals were identified. No associated funerary objects are present.

Although the description of the original site location is not specific enough to determine land ownership status, most of the land in the general region was Federal land administered by the Bureau of Land Management at the time the remains were removed. Therefore, the Bureau of Land Management assumes control of the human remains for the purposes of NAGPRA compliance. Because provenience is limited to a regional area, and the remains were collected by Mesa State College students and stored by Mesa State College, the college has shared control with the Bureau of Land Management. After their discovery in the college's Geology Department, the remains were transported by Bureau of Land Management staff to the Museum of Western Colorado for secure storage pending repatriation.

The human remains consist of two adult individuals of considerable antiquity, and are likely Native Americans. Their reported burial within rock crevices correlates with Native American burial practices, particularly those of the Ute culture. Furthermore, the original location of the human remains lies within traditional Ute lands, and within proximity to Ute sites and historic trails.

Officials of the Bureau of Land Management and Mesa State College have determined that, pursuant to 25 U.S.C. 3001 (9)-(10), the human remains described above represent the physical remains of two individuals of Native American ancestry. Officials of the Bureau of Land Management and Mesa State College have also determined that, pursuant to 25 U.S.C. 3001 (2), there is a relationship of shared group identity that can be reasonably traced between the Native American human remains and the Ute Tribes - Southern Ute Indian Tribe of the Southern Ute Reservation, Colorado; Ute Mountain Tribe of the Ute Mountain Reservation, Colorado, New Mexico & Utah; and, in particular, the Ute Indian Tribe of the Uintah & Ouray Reservation, Utah.

Representatives of any other Indian tribe that believes itself to be culturally affiliated with the human remains should contact Dan Haas, State Archaeologist, Bureau of Land Management, Colorado State Office, 2850 Youngfield St., Lakewood, CO 80215-7076, telephone (303) 239-3647, before June 3, 2010. Repatriation of the human remains to the Ute Indian Tribe of the Uintah & Ouray Reservation, Utah, may proceed after that date if no additional claimants come forward.

The Bureau of Land Management is responsible for notifying the Hopi Tribe of Arizona; Jicarilla Apache Nation, New Mexico; Kiowa Indian Tribe of Oklahoma; Navajo Nation, Arizona, New Mexico & Utah; Ohkay Owingeh, New Mexico; Paiute Indian Tribe of Utah; Pueblo of San Ildefonso, New Mexico; Pueblo of Santa Ana, New Mexico; Pueblo of Santa Clara, New Mexico; Pueblo of Pojoaque, New Mexico; Shoshone-Bannock Tribes of the Fort Hall Reservation of Idaho; Southern Ute Indian Tribe of the Southern Ute Reservation, Colorado; Standing Rock Sioux Tribe of North & South Dakota; Ute Indian Tribe of the Uintah & Ouray Reservation, Utah; and Ute Mountain Tribe of the Ute Mountain Reservation, Colorado, New Mexico & Utah, that this notice has been published.

Dated: April 16, 2010.
David Tarler,
Acting Manager, National NAGPRA Program.

[FR Doc. 2010-10381 Filed 5-3-10; 8:45 am]

BILLING CODE 4312-50-S